DEPARTMENT OF TRANSPORTATION

Federal Aviation Administration

14 CFR Part 39

[Docket No. FAA-2006-24954; Directorate Identifier 2006-CE-30-AD; Amendment 39-14713; AD 2006-16-13]

RIN 2120-AA64

Airworthiness Directives; Pilatus Aircraft Ltd. Models PC-12 and PC-12/45 Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. We are issuing this AD to require actions to correct the unsafe condition on these products.

DATES: This AD becomes effective September 18, 2006.

The Director of the Federal Register approved the incorporation by reference of certain publications listed in this AD as of September 18, 2006.

ADDRESSES: You may examine the AD docket on the Internet at http://dms.dot.gov or in person at the Docket Management Facility, U.S. Department of Transportation, 400 Seventh Street, SW., Nassif Building, Room PL-401, Washington, DC.

FOR FURTHER INFORMATION CONTACT: Doug Rudolph, Aerospace Engineer, FAA, Small Airplane Directorate, 901 Locust, Room 301, Kansas City, Missouri, 64106; telephone: (816) 329-4059; facsimile: (816) 329-4090

SUPPLEMENTARY INFORMATION:

Discussion

We issued a notice of proposed rulemaking (NPRM) to amend 14 CFR part 39 to include an AD that would apply to the specified products. The NPRM was published in theFederal Register on June 22, 2006 (71 FR 35843). The NPRM proposed to require a one-time inspection of the Frame 21 (FR21) adjacent to the wing upper-attachment lugs, left and right, and a repair if necessary.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

Based on the service information, we estimate that this AD will affect about 394 products of U.S. registry. We also estimate that it will take about 5 work-hours per product to do the action and that the average labor rate is $80 per work-hour. Where the service information lists required parts costs that are covered under warranty, we have assumed that there will be no charge for these costs. As we do not control warranty coverage for affected parties, some parties may incur costs higher than estimated here. Based on these figures, we estimate the cost of this AD on U.S. operators to be $157,600, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2006-16-13 PILATUS AIRCRAFT LTD: Amendment 39-14713; Docket No. FAA-2006-24954; Directorate Identifier 2006-CE-30-AD.

Effective Date

(a) This airworthiness directive (AD) becomes effective September 18, 2006.

Affected ADs

(b) None.

Applicability

(c) This AD applies to Models PC-12 and PC-12/45 airplanes; manufacturer serial numbers 101 through 617 inclusive, certificated in any U.S. category.

Reason

(d) The mandatory continuing airworthiness information (MCAI) states that the aircraft manufacturer has identified drill damage on some Frame 21 (FR21) lug fittings on the production line and during a number of midlife wing lug inspections. It is thought that the damage found on the FR21 lug fittings occurred during assembly of the airplane. Depending on the size and location of the possible damage, if not corrected, the fatigue life of the wing attachment lugs on FR21 may be affected. The MCAI requires a one-time inspection of the FR21 adjacent to the wing upper-attachment lugs, left and right, and a repair if necessary.

Actions and Compliance

(e) Unless already done, do the following except as stated in paragraph (f) below.

(1) Within the next 100 hours time-in-service (TIS) after September 15, 2006 (the effective date of this AD), perform an inspection of FR21 in the area of the outer sidewall frame attachment lug forward and aft side faces, left and right, to determine if there is any damage that may have been made with a drill. Follow Pilatus Aircraft Ltd. PC12 Service Bulletin No. 53-004, dated February 10, 2006.

(2) Within the next 100 hours TIS after September 18, 2006 (the effective date of this AD), perform an inspection of FR21 in the area of the top surface of the wing upper-attachment lugs, left and right, to determine if there is any damage that may have been made with a drill. Follow Pilatus Aircraft Ltd. PC12 Service Bulletin No. 53-004, dated February 10, 2006.

(3) If during the inspection required by paragraph (e)(1) of this AD any damage less than 0.1 mm (0.0040 inch) on any FR21 is found, prior to further flight, repair the damaged FR21 in accordance with Pilatus Aircraft Ltd. PC12 Service Bulletin No. 53-004, dated February 10, 2006.

(4) If during the inspection required in paragraph (e)(1) of this AD any damage equal to or greater than 0.1 mm (0.0040 inch) on any FR21 is found, prior to further flight contact Pilatus Aircraft Ltd. for an FAA-approved repair solution and incorporate the repair.

(5) If during the inspection required by paragraph (e)(2) of this AD any damage less than 1 mm (0.040 inch) depth on any FR21 wing attachment lug top surface is found, prior to further flight, repair the damaged FR21 in accordance with Pilatus Aircraft Ltd. PC12 Service Bulletin No. 53-004, dated February 10, 2006.

(6) If during the inspection required by paragraph (e)(2) of this AD any damage equal to or greater than 1 mm (0.040 inch) depth on any FR21 wing attachment lug top surface is found, prior to further flight contact Pilatus Aircraft Ltd. for an FAA-approved repair solution and incorporate the repair.

FAA AD Differences

(f) None.

Other FAA AD Provisions

(g) The following provisions also apply to this AD:

(1) Alternative Methods of Compliance (AMOCs): The Manager, Standards Staff, FAA, ATTN: Doug Rudolph, Aerospace Engineer, FAA, Small Airplane Directorate, 901 Locust, Room 301, Kansas City, Missouri, 64106; telephone: (816) 329-4059; facsimile: (816) 329-4090, has the authority to approve AMOCs for this AD, if requested using the procedures found in 14 CFR 39.19.

(2) Return to Airworthiness: When complying with this AD, perform FAA-approved corrective actions before returning the product to an airworthy condition.

(3) Reporting Requirements: For any reporting requirement in this AD, under the provisions of the Paperwork Reduction Act, the Office of Management and Budget (OMB) has approved the information collection requirements and has assigned OMB Control Number 2120-0056.

Related Information

(h) This AD is related to Federal Office for Civil Aviation AD HB-2006-223, effective date April 20, 2006, which references Pilatus Aircraft Ltd. PC12 Service Bulletin No. 53-004, dated February 10, 2006.

Material Incorporated by Reference

(i) You must use Pilatus Aircraft Ltd. PC12 Service Bulletin No. 53-004, dated February 10, 2006, to do the actions required by this AD, unless the AD specifies otherwise.

(1) The Director of the Federal Register approved the incorporation by reference of this service information under 5 U.S.C. 552(a) and 1 CFR part 51.

(2) For service information identified in this AD, contact the Pilatus Aircraft Ltd., Customer Support Manager, CH-6371 STANS, Switzerland; telephone: 41 41 619 6208; facsimile: +41 41 619 7311; email: SupportPC12@pilatus-aircraft.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on August 4, 2006.
John R. Colomy,
Acting Manager, Small Airplane Directorate, Aircraft Certification Service.

[FR Doc. E6-13016 Filed 8-11-06; 8:45 am]

BILLING CODE 4910-13-P